DEPARTMENT OF THE INTERIOR

Geological Survey

Technology Transfer Act of 1986

AGENCY: Geological Survey, Department of the Interior.

ACTION: Notice of proposed Cooperative Research and Development Agreement (CRADA) negotiations.

SUMMARY: The United States Geological Survey (USGS) is planning to enter into a Cooperative Research and Development Agreement (CRADA) with LockClickPrint, Inc., of Los Lunas, New Mexico. The purpose of the CRADA is to develop and test the marketability of high-quality, museum art products based on satellite, aerial photography, and mapping source data from the USGS. Any other organization interested in pursuing a partnership for similar kinds of activities should contact the USGS.

ADDRESSES: Inquiries may be addressed to the Branch of Business Development, U.S. Geological Survey, 500 National Center, 12201 Sunrise Valley Drive, Reston, Virginia 20192; Telephone (703) 648-4621, facsimile (703) 648-4706; Internet “bduff@usgs.gov”.

FOR FURTHER INFORMATION CONTACT: Beth L. Duff, address above.

SUPPLEMENTARY INFORMATION: This notice is to meet the USGS requirement stipulated in the Survey Manual.

Dated: October 28, 2002.
Robert A. Lidwin,
Chief of Staff, Geography.

[FR Doc. 02-32049 Filed 12-19-02; 8:45 am]

BILLING CODE 4310-Y7-U